DEPARTMENT OF TRANSPORTATION

Surface Transportation Board

[STB Docket No. AB-33 (Sub-No. 259X)]

Union Pacific Railroad Company—Abandonment Exemption—in Los Angeles County, CA

On January 28, 2008, Union Pacific Railroad Company (UP) filed with the Surface Transportation Board a petition under 49 U.S.C. 10502 for exemption from the provisions of 49 U.S.C. 10903 to permit UP to abandon its easement over 0.3 miles of rail line on the Lakewood Industrial Lead between mileposts 16.2, at Carson Street, and milepost 16.5, near Cover Street, in Lakewood, Los Angeles County, CA. (the line).¹ The line is located on private property owned by Ganahl, the only shipper on the line. Ganahl will continue to be served by UP and will use the line as industrial track. The line traverses U.S. Postal Service Zip Code 90712 and includes no stations.

¹ The line was sold by UP to Ganahl Lumber Company (Ganahl) on August 11, 2006. UP retained an operating easement along with the common carrier obligation.

The line does not contain Federally granted rights-of-way. Any documentation in UP's possession will be made available promptly to those requesting it.

The interests of railroad employees will be protected by the conditions set forth in Oregon Short Line R. Co.—Abandonment—Goshen, 360 I.C.C. 91 (1979).

By issuance of this notice, the Board is instituting an exemption proceeding pursuant to 49 U.S.C. 10502(b). A final decision will be issued by May 16, 2008.

Any offer of financial assistance (OFA) under 49 CFR 1152.27(b)(2) will be due no later than 10 days after service of a decision granting the petition for exemption. Each OFA must be accompanied by a $1,300 filing fee. See 49 CFR 1002.2(f)(25).

All interested persons should be aware that, following abandonment of rail service and salvage of the line, the line may be suitable for other public use, including interim trail use. Any request for a public use condition under 49 CFR 1152.28 or trail use/rail banking under 49 CFR 1152.29 will be due no later than March 6, 2008. Each trail use request must be accompanied by a $200 filing fee. See 49 CFR 1002.2(f)(27).

All filings in response to this notice must refer to STB Docket No. AB-33 (Sub-No. 259X), and must be sent to: (1) Surface Transportation Board, 395 E Street, SW., Washington, DC 20423-0001; and (2) Gabriel S. Meyer, 1400 Douglas Street, STOP 1580, Omaha, NE 68179. Replies to UP's petition are due on or before March 6, 2008.

Persons seeking further information concerning abandonment procedures may contact the Board's Office of Governmental and Public Affairs at (202) 245-0230 or refer to the full abandonment or discontinuance regulations at 49 CFR part 1152. Questions concerning environmental issues may be directed to the Board's Section of Environmental Analysis (SEA) at (202) 245-0305. [Assistance for the hearing impaired is available through the Federal Information Relay Service (FIRS) at 1-800-877-8339.]

An environmental assessment (EA) (or environmental impact statement (EIS), if necessary) prepared by SEA will be served upon all parties of record and upon any agencies or other persons who commented during its preparation. Other interested persons may contact SEA to obtain a copy of the EA (or EIS). EAs in these abandonment proceedings normally will be made available within 60 days of the filing of the petition. The deadline for submission of comments on the EA will generally be within 30 days of its service.

Board decisions and notices are available on our Web site at http://www.stb.dot.gov.

Decided: February 7, 2008.
By the Board, David M. Konschnik, Director, Office of Proceedings.
Anne K. Quinlan,
Acting Secretary.

[FR Doc. E8-2637 Filed 2-14-08; 8:45 am]

BILLING CODE 4915-01-P